DEPARTMENT OF AGRICULTURE

Rural Utilities Service

Minnkota Power Cooperative, Inc.: Notice of Intent To Hold Public Scoping Meetings and Prepare an Environmental Impact Statement

AGENCY: Rural Utilities Service, USDA.

ACTION: Notice of Intent to Hold Public Scoping Meetings and Prepare an Environmental Impact Statement.

SUMMARY: The Rural Utilities Service (RUS), an Agency that delivers the United States Department of Agriculture (USDA) Rural Development Utilities Programs, hereinafter referred to as Rural Development and/or the Agency, intends to hold public scoping meetings and prepare an Environmental Impact Statement (EIS) in connection with possible impacts related to a proposed action by Minnkota Power Cooperative (Minnkota Power), Otter Tail Power Company, and Minnesota Power to construct a 230 kV electric transmission line from Bemidji to Grand Rapids, Minnesota. To minimize duplication of effort pursuant to 40 CFR 1506.2, Rural Development is conducting an environmental review for the proposed action jointly with the Minnesota Department of Commerce, Office of Energy Security (OES). Rural Development and OES will jointly prepare an environmental review document in compliance with federal responsibilities under the National Environmental Policy Act (NEPA) and other federal statutes and regulations, and state responsibilities under the Minnesota Environmental Policy Act and the Minnesota Power Plant Siting Act.

DATES: USDA Rural Development and the State of Minnesota Department of Commerce OES will conduct six public scoping meetings in an open house format in order to provide information and solicit comments for the preparation of the joint EIS. Presentations on the proposed action will begin at the start of the second hour, followed by an opportunity for public comment. The public meetings will be held on the dates, times and locations provided below. All written questions and comments must be received by Rural Development or OES by August 29, 2008.

Public Scoping Meetings for the Proposed Action to Construct a 230 kV Transmission Line from Bemidji, MN to Grand Rapids, MN
Date | Time (central daylight time) | Location
August 11, 2008 | 5 p.m. CDT | Blackduck, Senior Center, 24 1st Street SE., Blackduck, MN 56630.
August 12, 2008 | 5 p.m. CDT | Cass Lake, Palace Casino & Hotel, 16599 69th Avenue, NW., Cass Lake, MN 56633.
August 13, 2008 | 5 p.m. CDT | Deer River, Morse Town Hall, 32775 State Hwy 46, Deer River, MN 56636.
August 14, 2008 | 1 p.m. CDT | Bemidji, Hampton Inn & Suites, 1019 Paul Bunyan Drive South, Bemidji, MN 56601.
August 14, 2008 | 5 p.m. CDT | Bemidji, Hampton Inn & Suites, 1019 Paul Bunyan Drive South, Bemidji, MN 56601.
August 15, 2008 | 9 a.m.-12 p.m. CDT | Walker, Hiawatha Beach Resort, 10904 Steamboat Loop NW., Walker, MN 56484.

ADDRESSES: To send comments or for further information, contact Barbara Britton, Environmental Protection Specialist, USDA Rural Development Utilities Programs, at 1400 Independence Avenue, SW., Stop 1571, Washington, DC 20250-1571, telephone (202) 720-1414, fax: (202) 690-0629, e-mail Barbara.Britton@wdc.usda.gov or Suzanne Steinhauer, Project Manager, Minnesota Department of Commerce, Office of Energy Security, at 85 Seventh Place, Suite 500, Saint Paul, Minnesota 55010, telephone (651) 296-2888, e-mail Suzanne.Steinhauer@state.mn.us. An Alternatives Evaluation Study (AES) and the Macro-Corridor Study (MCS) can be obtained from the Agency Web site at http://www.usda.gov/rus/water/ees/ea.htm or by contacting Bob Lindholm of Minnesota Power at (888) 373-4113, bemidjiinfo@capx2020.com, and at the public libraries listed below:

Bemidji Public Library, 509 America Ave., NW., Bemidji, MN 56601.

Cass Lake Community Library, 223 Cedar Ave. NW., P.O. Box 836, Cass Lake, MN 56633.

Grand Rapids Area Library, 140 NE 2nd Street, Grand Rapids, MN 55744.

Blackduck Community Library, 72 First St., SE., P.O. Box 326, Blackduck, MN 56630.

Margaret Welch Memorial Library, P.O. Box 106, 5051 State 84, Longville, MN 56655.

Walker Public Library, 207 4th St., P.O. Box 550, Walker, MN 56484.

Bovey Public Library, Village Hall, 402 2nd Street, P.O. Box 130, Bovey, MN 55709-0130.

Coleraine Public Library, Independent Building, 203 Cole Avenue, P.O. Box 225, Coleraine, MN 55722-0225.

SUPPLEMENTARY INFORMATION: Minnkota Power, Otter Tail Power, and Minnesota Power propose to construct a new transmission line from Bemidji to Grand Rapids, Minnesota. The proposal is designed to correct a local load serving inadequacy for the Bemidji area and the northern Red River Valley in West Central Minnesota. It is part of the CapX2020 long-range planning effort that has identified a comprehensive framework for new transmission infrastructure that will be needed to maintain reliability of the transmission system throughout Minnesota and the surrounding region. Minnkota Power, Otter Tail Power, and Minnesota Power are partners in this investment, and Minnkota Power is seeking financing from Rural Development Utilities Programs for its portion of the investment.

Prior to making a financial decision about whether to provide financial assistance for a proposal, Rural Development is required to conduct an environmental review under the NEPA in accordance with the Agency policies and procedures codified in 7 CFR part 1794. These regulations require the Agency to consider engineering alternatives including no action, load management, conservation measures, and reactive power supply and transmission line macro-corridor alternatives. This proposal is classified in 1794.24(b)(1) as an Environmental Assessment (EA) with a requirement for scoping meetings.

The State of Minnesota requires that an EIS be prepared in association with a route permit in accordance with Chapter 216 E of the Minnesota Power Plant Siting Act and the Minnesota Environmental Policy Act.

Rural Development and the State of Minnesota have agreed to be co-lead agencies on the proposal to prepare an EIS with the U.S. Forest Service, U.S. Army Corps of Engineers, and the U.S. Bureau for Indian Affairs participating as Cooperating Agencies. The Leech Lake Band of Ojibwe has been invited to participate as a Cooperating Agency.

Using information from the Alternatives Evaluation Study (AES) and the Macro-Corridor Study (MCS) and considering input provided by government agencies, private organizations, and the public, Rural Development and OES, in consultation with the cooperating agencies, will determine the scope of the EIS. Notices announcing the availability of the Draft EIS will be published in the Federal Register and local newspapers.

Any final action by the Agency related to the proposal will be subject to, contingent upon, and in compliance with all relevant Federal, State and local environmental laws and regulations, and completion of the environmental review requirements will be conducted as prescribed in the Rural Development regulations.

Dated: July 15, 2008.
Mark S. Plank,
Director, Engineering and Environmental Staff, USDA/Rural Development/Utilities Programs.

[FR Doc. E8-16493 Filed 7-17-08; 8:45 am]

BILLING CODE 3410-15-P